DEPARTMENT OF JUSTICE

Notice of Lodging of Consent Decree; Pursuant to the Comprehensive Environmental Response Compensation and Liability Act (“CERCLA”)

In accordance with 28 CFR 50.7, notice is hereby given that on September 27, 2002, a consent decree was lodged with the United States District Court for the District of New Hampshire in two cases, United States v. AVX Corporation, et al., Civ. No. 02-436-M, and State of New Hampshire v. AVX Corporation, et al., Civ. No. 02-437-JD. In its complaint, the United States, on behalf of U.S. Environmental Protection Agency, asserted claims against two de minimis generator defendants under sections 106 and 107(a) of the Comprehensive Environmental Response, Compensation, and Liability Act, as amended (“CERCLA”), 42 U.S.C. 9606 and 9607(a), seeking recovery of response costs incurred and to be incurred in connection with the Fletcher Paint Works and Storage Facility Superfund Site, in Milford, New Hampshire (“Site”). In its complaint, the State of New Hampshire asserted claims against the same defendants under Sections 106 and 107(a) of CERCLA and under New Hampshire RSA 147-B:10 seeking recovery of response costs incurred and to be incurred in connection with the Site. The proposed consent decree will resolve the United States' and the State's claims against two defendants. The de minimis consent decree requires the two defendants to pay $2,198,052 to the United States, which will be deposited into a special account to pay for response activities at the Site, and to pay $4,191 to the State.

The Department of Justice will receive, for a period of thirty (30) days from the date of this publication, comments relating to the proposed de minimis consent decree. Comments should be addressed to the Assistant Attorney General, Environment and Natural Resources Division, P.O. Box 7611, U.S. Department of Justice, Washington, DC 20044-7611, and should refer to United States v. AVX Corporation, et al., DOJ Ref. No. 90-11-3-684/2.

The proposed de minimis consent decree may be examined at the office of the United States Attorney for the District of New Hampshire, 55 Pleasant Street, Rm. 352, Concord, NH 03301; and the Region I office of the U.S. Environmental Protection Agency, One Congress Street, Suite 1100, Boston, MA 02114. A copy of the proposed de minimis consent decree may be obtained by mail from the Consent Decree Library, U.S. Department of Justice, P.O. Box 7611, Washington, DC 20044-7611. In requesting a copy please enclose a check in the amount of $4.75 payable to the U.S. Treasury.

Ronald Gluck,
Assistant Chief, Environmental Enforcement Section, Environmental and Natural Resources Division.

[FR Doc. 02-26503 Filed 10-17-02; 8:45 am]

BILLING CODE 4410-15-M